NATIONAL SCIENCE FOUNDATION

Sunshine Act Meetings

The National Science Board hereby gives notice of the scheduling of a teleconference of the Committee on Strategy (CS) for the transaction of National Science Board business pursuant to the National Science Foundation Act and the Government in the Sunshine Act.

TIME AND DATE: Monday, November 22, 2021, at 11:00 a.m.-12:00 p.m. EST.

PLACE: This meeting will be held by videoconference organized through the National Science Foundation.

STATUS: Closed.

MATTERS TO BE CONSIDERED: The agenda is: Chair's remarks; Approval of July 30, 2021, meeting minutes; Discussion of NSF's 2022-2026 Strategic Plan, and review and action on NSB's Sense of the Board Statement.

CONTACT PERSON FOR MORE INFORMATION: Point of contact for this meeting is: Chris Blair, (703) 292-7000, cblair@nsf.gov. You may find meeting information and updates at https://www.nsf.gov/nsb/meetings/notices.jsp#sunshine.

Chris Blair,
Executive Assistant to the National Science Board Office.

[FR Doc. 2021-25337 Filed 11-17-21; 11:15 am]

BILLING CODE 7555-01-P